DEPARTMENT OF COMMERCE

National Oceanic and Atmospheric Administration

RIN: 0648-XI17

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 142nd meeting to consider and take actions on fishery management issues in the Western Pacific Region.

DATES: The 142nd Council meeting and public hearings will be held on June 16-19, 2008 in Honolulu, HI. For specific times and the agenda, see SUPPLEMENTARY INFORMATION.

ADDRESSES: The 142nd Council meeting and public hearings will be held at the Ala Moana Hotel, 410 Atkinson Drive, Honolulu, Hawaii, 96814-4722; telephone: (808) 955-4811.

FOR FURTHER INFORMATION CONTACT: Kitty M. Simonds, Executive Director; telephone: (808) 522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, June 16, 2008

Standing Committee Meetings

1. 7:30 a.m. - 9 a.m., Executive and Budget Standing Committee

2. 9 a.m. - 10 a.m., Enforcement/Vessel Monitoring Systems (VMS) Standing Committee

3. 10 a.m. - 12 noon, Pelagics Ecosystem and International Fisheries Standing Committee

3. 1:30 p.m. - 3:30 p.m., Hawaii Archipelago/Pacific Remote Island Areas (PRIA) Standing Committee

4. 3 p.m. - 4 p.m., Fishery Rights of Indigenous People Standing Committee

5. 4 p.m. - 6 p.m., Program Planning Standing Committee

The agenda during the full Council meeting will include the items listed here.

Schedule and Agenda for Council Meeting

9 a.m. - 6 p.m., Wednesday March 18, 2008

1. Introductions

2. Approval of Agenda

3. Approval of 140th and 141st Meeting Minutes

4. Agency Reports

A. National Marine Fisheries Service (NMFS)

1. Pacific Islands Regional Office (PIRO)

2. Pacific Islands Fisheries Science Center (PIFSC)

B. NOAA General Counsel

C. U.S. Fish and Wildlife Service

D. Department of State

E. Enforcement

1. U.S. Coast Guard

2. NOAA Office for Law Enforcement

3. Status of Violations

4. Standing Committee Report

5. Public Comment

6. Council Discussion and Action

5. Program Planning

A. Program Planning and Research Action Items

1. Annual Catch Limits

a. National Guidelines and Proposed Rule

b. Management Options

2. Barter, Trade and Subsistence Issue

a. Background Paper

b. Management Options

3. Community Development Program Implementation Framework

B. Integrated Fishery Environmental Management Statement

C. Update on Legislation

D. Update on status of Fishery Management Plan (FMP) actions

E. Report of Small Vessel Tracking Project

F. Report on Marine Education and Training (MET) Workshop

G. Update on U.S. Coral Reef Task Force Meeting

H. Hawaii Advisory Panel Recommendations

I. Hawaii Plan Team Recommendations

J. Scientific and Statistical Committee (SSC) Recommendations

K. Standing Committee Recommendations

L. Public Hearing

M. Council Discussion and Action

8 a.m. - 6 p.m., Wednesday March 18, 2008

Guest Speaker: Ocean Acidification, Global Warming and Impacts on Coral Reef Ecosystems in Fisheries

6. Marianas Archipelago

A. Arongo flaeey and Isla Informe

1. Commonwealth of the Northern Marianas Islands (CNMI)

2. Guam

B. Enforcement Issues

1. CNMI

2. Guam

C. Marianas Community Issues

1. CNMI

2. Guam

D. Marianas Fishery Reports

E. PIRO Habitat Initiatives

F. Education and Outreach Initiatives

G. SSC Recommendations

H. Public Comment

I. Council Discussion and Action

7. American Samoa Archipelago

A. Motu Ripoti

B. Enforcement Issues

C. American Samoa Community Issues

1. Update on Community-based Management Areas

2. Other issues

D. PIRO Habitat Initiatives

E. Education and Outreach Initiatives

F. SSC Recommendations

G. Public Comment

H. Council Discussion and Action

8. Hawaii Archipelago and PRIA

A. Moku Pepa

1. 2008 Sustainable Fisheries Leadership Award

B. Enforcement Issues

C. Hawaii Community Issues

1. Aha Ki`ole Advisory Committee

2. Hawaii Ocean Resources Management Plan (ORMP) Update

3. Other issues

D. Main Hawaiian Islands (MHI) Bottomfish

1. MHI Bottomfish Update

2. Bottomfish Risk Analysis (Action Item)

E. PIRO Habitat Initiatives

F. Education and Outreach Initiatives

G. Hawaii Advisory Panel Report

H. Hawaii Plan Team Report

I. SSC Recommendations

J. Standing Committee Recommendations

K. Public Hearing

L. Council Discussion and Action

9. Public Comment on Non Agenda Items

8:30 a.m. - 5 p.m., Thursday June 19, 2008

10. Pelagic & International Fisheries

A. Pelagics Ecosystem Action Items

1. Hawaii Swordfish Fishery Effort Management

a. Susceptibility Quasi-Extinction Analysis

2. Non-Longline Pelagic Fishery Management

3. Fish Aggregating Device (FAD) Management Options

4. CNMI Longline Control Date

5. Hawaii Charter Vessel Control Date

B. American Samoa and Hawaii Longline Quarterly Reports

C. American Samoa longline-turtle interactions

D. Video Monitoring of Longliners

E. International Fisheries

1. Sustainable Tuna Roundtable

2. North Pacific Seamount Regional Fishery Management Organization

3. Inter-American Tropical Tuna Commission (IATTC)

F. Turtle Advisory Committee Report

G. Education and Outreach Initiatives

H. Hawaii Advisory Panel Recommendations

I. Pelagic Plan Team Report

J. SSC Recommendations

K. Standing Committee Recommendations

L. Public Hearing

M. Council Discussion and Action

11. Administrative Matters & Budget

A. Financial Reports

B. Administrative Reports

C. Meetings and Workshops (Calendar)

1. Council Coordinating Committee

D. Council Family Changes

E. Standard Operating Procedures and Protocols

1. Review of Recusal Requirements

2. Criteria to Remove Council Members

F. Council Member Rick Gaffney issues

G. Standing Committee Recommendations

H. Public Comment

I. Council Discussion and Action

12. Other Business

A. Next Meeting

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 27, 2008.
Tracey L. Thompson,
Acting Director, Office of Sustainable Fisheries, National Marine Fisheries Service.

[FR Doc. E8-12043 Filed 5-29-08; 8:45 am]

BILLING CODE 3510-22-S